DEPARTMENT OF THE INTERIOR

National Park Service

[NPS-WASO-NAGPRA-NPS0035805; PPWOCRADN0-PCU00RP14.R50000]

Notice of Inventory Completion: Maine State Museum, Augusta, ME

AGENCY: National Park Service, Interior.

ACTION: Notice.

SUMMARY: In accordance with the Native American Graves Protection and Repatriation Act (NAGPRA), the Maine State Museum has completed an inventory of human remains and associated funerary objects and has determined that there is no cultural affiliation between the human remains and associated funerary objects and any Indian Tribe. The human remains and associated funerary objects were removed from Cumberland, Franklin, Sagadahoc, York, Oxford, and Knox Counties, ME.

DATES: Disposition of the human remains and associated funerary objects in this notice may occur on or after June 8, 2023.

ADDRESSES: Dr. Paula T. Work, Curator of Systematic Collections, Maine State Museum, 83 SHS, Augusta, ME 04333-0083, telephone (207) 287-6604, email paula.work@maine.gov.

SUPPLEMENTARY INFORMATION: This notice is published as part of the National Park Service's administrative responsibilities under NAGPRA. The determinations in this notice are the sole responsibility of the Maine State Museum. The National Park Service is not responsible for the determinations in this notice. Additional information on the determinations in this notice, including the results of consultation, can be found in the inventory or related records held by the Maine State Museum.

Description

In 1992, human remains representing, at minimum, one individual, were removed from the Ormsby Site, ME15.51, in Cumberland County, ME. These human remains were removed during an excavation contracted by Central Maine Power Company. The cremated remains from Feature 5 most likely belong to a juvenile, and they probably date to the Archaic Period (9,000-3,600 BP). No known individual was identified. The one associated funerary object is a fragment of worked animal bone (two pieces of bone combined into one element).

On an unknown date, human remains representing, at minimum, one individual, were removed from Clapboard Island, Portland, in Cumberland County, ME. These human remains were donated to the Maine State Museum in 1978 by Robert Crowley. The human remains consist of a partial femur ball, a rib fragment, and two partial phalanges. Based on ages of other Clapboard Island sites, these human remains could date to the Ceramic Period. No known individual was identified. No associated funerary objects are present.

Sometime between 1988 and the 1990s, human remains representing, at minimum, one individual, were removed by archeological field schools from Tracy Farm, Starks, ME69.11, Feature 2, in Franklin County, ME. These human remains were transferred in 1995 to the Maine State Museum from the University of Maine at Farmington Archaeology Research Center. Feature 2 contained much of a deteriorated skeleton belonging to an adult male 35-50 years old. Based on burial style and radiocarbon dating (515 ±60 BP), these human remains date to the Early Contact Period. No known individual was identified. No associated funerary objects are present.

In 1984, human remains representing, at minimum, one individual, were removed from Tracy Farm, Starks, ME69.11, in Franklin County, ME. Catalog numbers indicate that these human remains most likely were transferred to the Maine State Museum in 1995 from the University of Maine at Farmington. The human remains belong to an adult, probably male. Based on radiocarbon dating (530 ±40 BP), these human remains date to the Late Ceramic Period. No known individual was identified. No associated funerary objects are present.

In 1984 (probable date), human remains representing, at minimum, two individuals, were removed from Tracy Farm, Starks, ME69.11, in Franklin County, ME. Catalog numbers indicate that these human remains most likely were transferred to the Maine State Museum in 1995 from the University of Maine at Farmington. The human remains—skull fragments and a single molar—belong to an individual of indeterminate age and sex. Based on radiocarbon dating of site materials (515 ±60 BP), these human remains date to the Early Contact Period. No known individual was identified. No associated funerary objects are present.

In 1978, human remains representing, at minimum, one individual, were removed from West Bath, ME15.114, in Sagadahoc County, ME. The human remains were found eroding from a riverbank. That same year, these human remains were transferred to the Maine State Museum from the State Medical Examiner's office. The human remains belong to a female 18-21 years old. Based on radiocarbon dating (625 ±105 BP), these human remains date to the Late Ceramic Period. No known individual was identified. No associated funerary objects are present.

In 1962, human remains representing, at minimum, one individual, were removed from Basin site, Phippsburg, ME15.20 in Sagadahoc County, ME. These human remains were donated to the Maine State Museum in 1963 by the Maine Archaeological Society. The human remains—a skeleton—belong to a female 25-35 years old. Based on radiocarbon dating (863 ±47 BP), these human remains date to the Late Ceramic Period. No known individual was identified. No associated funerary objects are present.

In 2000, human remains representing, at minimum, two individuals, were removed from Center Lovell, ME21.33, in Oxford County, ME. These human remains were salvaged from an eroding burial and that same year, were turned over to the Maine State Museum in 2000 by the Chief Medical Examiner's Office. The human remains belong to an adult and a child, and consist of the top portion of two skulls and an additional bone for the child. No known individuals were identified. No associated funerary objects are present.

On an unknown date, human remains representing, at minimum, one individual, were removed from an unknown site (likely along the banks of the Saco River) in York County, ME. These human remains were collected by Enoch Jordan of Saco and given to the Dyer Library and Saco Museum (DL/SM) in 1866 by Mrs. E.C. Jordan. The human remains were transferred to the Maine State Museum in 2003 from DL/SM. The human remains—a cranium—belong to a female of indeterminate age. No known individual was identified. No associated funerary objects are present.

On an unknown date, human remains representing, at minimum, one individual, were removed from the Erkkilas site, Warren, ME27.3, in Knox County, ME. The human remains were donated to the Maine State Museum in 1979 by Benjamin Smith. The human remains—a cranial fragment—belong to an individual of indeterminate age and sex. The human remains are dated to the Archaic Period, Moorehead phase (4,500-3,800 BP). No known individual was identified. The two associated funerary objects are a piece of ocher and a piece of pyrite.

Aboriginal Land

The human remains and associated funerary objects in this notice were removed from known geographic locations. These locations are the aboriginal lands of the Eastern Abenaki and other tribes that formerly occupied what is now Cumberland, Knox, Oxford, Sagadahoc, and York Counties and portions of Franklin County in the State of Maine and that are related to one or more Indian Tribes. The following information was used to identify the related Indian Tribes: Acts of Congress that include the Maine Indian Claims Settlement Act of 1980 (Pub. L. 96-420, 94 Stat. 1785), the Houlton Band of Maliseet Indians Supplementary Claims Settlement Act of 1986 (Pub. L. 99-566, 100 Stat. 3184), and the Aroostook Band of Micmacs Settlement Act of 1991 (Pub. L. 102-171, 105 Stat. 1143); the legislative history of those Acts of Congress; and other relevant, authoritative governmental determinations. Accordingly, it is the recommendation of the Maine State Museum that disposition of the described human remains and objects in this notice be made be to the Mi'kmaq Nation, Houlton Band of Maliseet Indians, Passamaquoddy Tribe, and the Penobscot Nation, collectively represented by the Wabanaki Intertribal Repatriation Committee.

Determinations

Pursuant to NAGPRA and its implementing regulations, and after consultation with the appropriate Indian Tribes, the Maine State Museum has determined that:

• The human remains described in this notice represent the physical remains of 12 individuals of Native American ancestry.

• The three objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of tribes related to the Houlton Band of Maliseet Indians; Mi'kmaq Nation (Previously listed as Aroostook Band of Micmacs); Passamaquoddy Tribe; and the Penobscot Nation.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after June 8, 2023. If competing requests for disposition are received, the Maine State Museum must determine the most appropriate requestor prior to disposition. Requests for joint disposition of the human remains and associated funerary objects are considered a single request and not competing requests. The Maine State Museum is responsible for sending a copy of this notice to the Indian Tribes identified in this notice.

Authority: Native American Graves Protection and Repatriation Act, 25 U.S.C. 3003, and the implementing regulations, 43 CFR 10.9 and 10.11.

Dated: May 3, 2023.
Melanie O'Brien,
Manager, National NAGPRA Program.

[FR Doc. 2023-09767 Filed 5-8-23; 8:45 am]

BILLING CODE 4312-52-P